DEPARTMENT OF ENERGY

Federal Energy Regulatory Commission

[Docket No. CP05-83-000; Docket Nos. CP05-84-000; CP05-85-000; CP05-86-000]

Port Arthur LNG, L.P.; Port Arthur Pipeline, L.P.; Notice of Availability of the Final Environmental Impact Statement and Final General Conformity Determination for the Port Arthur LNG Project

April 28, 2006.

The staff of the Federal Energy Regulatory Commission (FERC or Commission) has prepared this final Environmental Impact Statement (EIS) for the construction and operation of the liquefied natural gas (LNG) import terminal and natural gas pipeline facilities (referred to as the Port Arthur LNG Project or Project) as proposed by Port Arthur LNG, L.P. and Port Arthur Pipeline, L.P. (collectively Sempra) in the above-referenced dockets.

The final EIS was prepared to satisfy the requirements of the National Environmental Policy Act (NEPA). The staff concludes that approval of the Port Arthur LNG Project, with appropriate mitigating measures as recommended, would have limited adverse environmental impact. The final EIS evaluates alternatives to the proposal, including system alternatives, alternative sites for the LNG import terminal, and pipeline alternatives. The final EIS also contains our final General Conformity Determination.

The purpose of the Port Arthur LNG Project is to allow access to LNG supplies and thus provide a new, stable source of between 1.5 and 3.0 billion cubic feet per day of natural gas to supplement the diminishing supplies while utilizing, to the extent practicable, the existing natural gas pipeline infrastructure within the Gulf of Mexico region of the U.S.; and allow natural gas delivery to markets in the Midwestern and Northeastern markets by use of existing interstate natural gas pipeline systems. Sempra's proposed facilities would be constructed in two phases and would ultimately provide an average of 3.0 billion cubic feet per day of natural gas to the existing pipeline infrastructure in Texas and Louisiana, and to potential other end-users in the Midwestern and Northeastern natural gas markets.

The final EIS addresses the potential environmental effects of the construction and operation of the following facilities in Jefferson and Orange Counties, Texas, and Cameron, Calcasieu, and Beauregard Parishes, Louisiana:

• A protected LNG unloading slip with ship maneuvering area (turning basin);

• LNG ship unloading system consisting of two berths each consisting of four 16-inch unloading arms and one 16-inch vapor return arm, mooring and breasting dolphins, gangway tower, firewater monitors, service utilities and associated valves and piping. LNG transfer from the ship to the on-shore storage system would be through two 36-inch-diameter unloading lines, one per berth. Each berth would be sized for an unloading rate of 17,500 cubic meters per hour (m³/hr); although, only one ship would be unloaded at a time during Phase I;

• LNG storage system consisting of a total of six full-containment LNG storage tanks each with a nominal capacity of 160,000 cubic meters (m³) (1,006,000 barrels). Each tank would be equipped with three can-type, fully submerged LNG in-tank pumps sized for 2,976 gallons per minute (gpm) each;

• Boil-off gas (BOG) recovery system consisting of 4 reciprocating BOG compressors each sized for 13,887 pounds per hour (lb/hr), four integrally geared return gas blowers, each sized for 32,228 lb/hr, and one direct-contact recondenser;

• LNG transfer system to transfer LNG from the recondenser to the send-out LNG vaporizers. The transfer system would consist of 16 pot-mounted LNG booster pumps (two being spares) each sized for 1,964 gpm;

• LNG vaporization system consisting of 12 shell-and-tube LNG vaporizers (two being spares) each sized for 0.305 Bcf/d. The heat source to the vaporizers would be heated water;

• Hot water heating system consisting of 8 gas-fired hot water heaters each sized for 348 million British thermal units per hour (MMBtu/hr) and 6 centrifugal hot water circulation pumps (two being spares) each sized for 11,727 gpm;

• Emergency vent system; LNG spill containment system; fire water system; fuel gas, nitrogen, instrument/plant air and service water utility systems; various hazard detection, control, and prevention systems; and cryogenic piping, electrical, and instrumentation systems;

• Utilities, buildings and support facilities; facilities for pig launchers and receivers; and metering facilities; and

• Approximately 73 miles of 36-inch-diameter natural gas pipeline and associated ancillary pipeline facilities.

The final EIS has been placed in the public files of the FERC and is available for public inspection at: Federal Energy Regulatory Commission, Public Reference and Files Maintenance Branch, 888 First Street, NE., Room 2A, Washington, DC 20426. (202) 502-8371.

A limited number of copies of the final EIS are available from the Public Reference and Files Maintenance Branch identified above. In addition, copies of the final EIS have been mailed to Federal, state, and local agencies; elected officials; public interest groups; individuals and affected landowners who requested a copy of the final EIS; and parties to these proceedings.

In accordance with the Council on Environmental Quality's (CEQ) regulations implementing the NEPA, no agency decision on a proposed action may be made until 30 days after the U.S. Environmental Protection Agency publishes a notice of availability of the final EIS. However, the CEQ regulations provide an exception to this rule when an agency decision is subject to a formal internal appeal process that allows other agencies or the public to make their views known. In such cases, the agency decision may be made at the same time as the notice of the final EIS is published, allowing both periods to run concurrently. Should the Commission authorize the proposed Project, it would be subject to a 30-day rehearing period.

Additional information about the Project is available from the Commission's Office of External Affairs, at 1-866-208-FERC or on the FERC Internet Web site (http://www.ferc.gov) using the eLibrary link. Click on the “eLibrary” link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet Web site also provides access to the texts of formal documents issued by the Commission, such as orders, notices, and rulemakings.

Magalie R. Salas,
Secretary.

[FR Doc. E6-6843 Filed 5-4-06; 8:45 am]

BILLING CODE 6717-01-P